ENVIRONMENTAL PROTECTION AGENCY

[Regional Docket Nos. V-2007-1, FRL-8926-6]

Clean Air Act Operating Permit Program; Petition for Objection to State Operating Permit for WE Energies Oak Creek Station

AGENCY: Environmental Protection Agency (EPA).

ACTION: Notice of final order on petition to object to Clean Air Act (Act) operating permit.

SUMMARY: This document announces that the EPA Administrator has responded to a petition asking EPA to object to an operating permit issued by the Wisconsin Department of Natural Resources (WDNR). Specifically, the Administrator granted in part and denied in part the petition submitted by the Sierra Club to object to the operating permit for WE Energies Oak Creek Station (Oak Creek).

Pursuant to section 505(b)(2) of the Act, a Petitioner may seek in the United States Court of Appeals for the appropriate circuit judicial review of those portions of a petition which EPA denied. Any petition for review shall be filed within 60 days from the date this notice appears in the Federal Register, pursuant to section 307 of the Act.

ADDRESSES: You may review copies of the final order, the petition, and other supporting information at the EPA Region 5 Office, 77 West Jackson Boulevard, Chicago, Illinois 60604. If you wish to examine these documents, you should make an appointment at least 24 hours before visiting day. Additionally, the final order for the Oak Creek petition is available electronically at: http://www.epa.gov/region07/programs/artd/air/title5/petitiondb/petitiondb.htm.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object, as appropriate, to operating permits proposed by state permitting authorities. Section 505(b)(2) of the Act authorizes any person to petition the EPA Administrator within 60 days after the expiration of the EPA review period to object to a state operating permit if EPA has not done so. A petition must be based only on objections to the permit that were raised with reasonable specificity during the public comment period provided by the state, unless the petitioner demonstrates that it was impracticable to raise issues during the comment period, or the grounds for the issues arose after this period.

On August 23, 2007, EPA received a petition from the Sierra Club requesting that EPA object to the Title V operating permit for Oak Creek. The Petitioner alleges that the permit is not in compliance with the requirements of the Act. Specifically, the Petitioner alleges that: (1) The permit must include a compliance schedule; (2) the permit application contains a false certification of compliance; (3) the permit application does not contain sufficient information to determine the applicability of the Prevention of Significant Deterioration program; (4) physical changes to the boilers at units 5 and 6 are subject to lower particulate matter (PM) emissions limits than are contained in the permit; (5) the permit must establish compliance demonstration requirements that ensure continuous compliance with emissions limits; (6) the facility's Compliance Assurance Monitoring (CAM) plan is deficient; (7) the facility's CAM plan ignores condensable PM; (8) the permit illegally exempts Oak Creek from applicable limits during start-up, shutdown, and malfunction; (9) plans referenced in the permit must be included in the permit and made available for public comment; and (10) the permit must require that the source submit all monitoring data and recordkeeping to the WDNR. On June 12, 2009, the Administrator issued an order granting the Oak Creek petition in part, and denying it in part. The order explains the reasons behind EPA's conclusion.

Dated: June 24, 2009.
Walter W. Kovalick Jr.,
Acting Regional Administrator, Region 5.

[FR Doc. E9-15806 Filed 7-2-09; 8:45 am]

BILLING CODE 6560-50-P